DEPARTMENT OF TRANSPORTATION

Maritime Administration

[Docket Number MARAD-2024-0102]

Updated Notice of Availability for the Camden County Programmatic Agreement Under Section 106 of the National Historic Preservation Act

AGENCY: Maritime Administration, Department of Transportation.

ACTION: Notice of availability and request for comment.

SUMMARY: The Maritime Administration (MARAD) is funding the Camden County Port of Camden Access and Infrastructure Resiliency Project (Project) which will reconstruct and improve several roadways within the City of Camden Port District to increase access between the Port of Camden and nearby interstates, while also improving infrastructure resiliency within a historically disadvantaged community. In accordance with the National Historic Preservation Act (NHPA) and its implementing regulations, MARAD has determined that a Programmatic Agreement (Agreement) must be prepared in accordance with the requirements of the NHPA in conjunction with the Project and invites public comments on the Agreement.

DATES: All comments on the Agreement are due on or before September 23, 2024. MARAD will consider comments filed after this date to the extent practicable.

ADDRESSES: To ensure that you do not duplicate your docket submissions, please submit all comments by only one of the following ways:

• Federal eRulemaking Portal: Go to https://www.regulations.gov, insert the docket number (MARAD-2024-0102) in the keyword box and click “Search.” Select the “Docket” tab, locate the Notice, and click on “comment” to begin the comment submission process. Follow the online instructions.

• Mail: Dockets Management Facility, U.S. Department of Transportation, 1200 New Jersey Avenue SE, West Building Ground Floor, Washington, DC 20590-0001.

• Hand Delivery: W12-l40 of the Department of Transportation, 1200 New Jersey Avenue SE, Washington, DC 20590 between 9:00 a.m. and 5:00 p.m. E.T., Monday through Friday, except Federal Holidays. The telephone number is 202-366-9329.

• Instructions: To properly identify your comments, please include the agency name and the docket number at the beginning of your comments. All comments received will be posted without change to https://www.regulations.gov, including any personal information provided.

FOR FURTHER INFORMATION CONTACT: Wendy Coble, (202) 366-5088 or via email at marad.history@dot.gov. Persons who use a telecommunications device for the deaf (TDD) may call the Federal Information Relay Service (FIRS) at 1-800-877-8339 to contact the above individual during business hours. The FIRS is available twenty-four hours a day, seven days a week, to leave a message or question. You will receive a reply during normal business hours. You may send mail to the Department of Transportation, Maritime Administration, 1200 New Jersey Avenue SE, Washington, DC 20590-0001.

SUPPLEMENTARY INFORMATION:

Background

The U.S. Department of Transportation (DOT) awarded funds to Camden County under the Fiscal Year 2022 Port Infrastructure Development Program for roadway improvements and reconstruction. The project is located in the City of Camden, Camden County, New Jersey.

The project proposes to reconstruct and improve several roadways within the City of Camden Port District including Atlantic Avenue between 1-676 and Ferry Avenue (0.7 miles), Broadway (County Route 551) from Atlantic Avenue to the railroad overpass (between Chelton Avenue and Morgan St) (0.9 miles), Ferry Avenue (County Route 603) from Broadway to Atlantic Avenue (0.6 miles), and South 2nd Street from Clinton Avenue to Atlantic Avenue (0.8 miles). These improvements will consist of the following:

• New pavement, milling, and resurfacing which will improve roadway conditions and reduce the need for additional maintenance;

• New sidewalks, ADA-compliant curb ramps, curb extensions, pedestrian countdown timers and push buttons which will improve pedestrian safety and accessibility;

• Adjusted curb radii and intersection markings which will discourage trucks from accessing residential streets and encourage them to more safely access truck routes; reduced turn radii will improve safety;

• Additional wayfinding signage and dynamic messaging signs which will improve traffic flow and better direct motorists, pedestrians, and cyclists to their destinations;

• New and upgraded street lighting which will improve safety and comfort;

• New drainage lines utilizing existing outfalls, and repairing existing damaged sewer which will capitalize on existing infrastructure to improve sewage; and

• Green infrastructure which will improve drainage and create a more appealing pedestrian environment.

MARAD has defined the Undertaking's area of potential effects (APE) as the boundary of the property of South 2nd Steet, Atlantic Avenue, Ferry Avenue and Broadway, which encompasses approximately three roadway miles.

Identification of Historic Properties

The analysis conducted for this project included revisiting previously collected archaeological data, additional research, and site investigations. This work included the completion of a Phase1A Cultural Resource Reconnaissance Survey Report specifically done for this project. The report, and consultations with the New Jersey State Historic Preservation Office (NJSHPO), concluded that the project will likely have adverse impacts on one historic resource that is listed on the National Register of Historic Places (NRHP), the South Camden Historic District, and historic resources, the 1907 Line Ditch timber sewer system and nineteenth century brick sewers, that will be evaluated for eligibility on the NRHP during the course of the project. It was also determined that the project's APE overlaps with the New York Shipbuilding Historic District, Bergen Square Historic District, and West Jersey & Seashore Lines Historic District, but these resources will not be adversely impacted by the project. The New York Shipbuilding Historic District has previously been determined eligible for the NRHP, while the Bergen Square Historic District and West Jersey & Seashore Lines Historic District have not yet been reviewed for eligibility on the NRHP.

Affected Historic Properties

The South Camden Historic District's period of significance is 1815-1930 and consist of numerous contributing elements, such as standing historic buildings. Cobblestone pavers within the Historic District are most directly linked to this project and currently lie beneath asphalt roadways within the district's boundaries.

The 1907 Line Ditch timber sewer system and nineteenth century brick sewers contributed to the early development of the City of Camden. The method of construction associated with these resources is common in other nearby cities, thus making the entire City of Camden sewer system likely ineligible for the NRHP as a historic district. However, this does not preclude portions of the sewer system from being contributing elements to historic districts. Additionally, some elements may be individually eligible. This includes the 1907 Line Ditch timber sewer system due to its ties to locally significant persons such as Aaron Ward and unique construction during a period in which sewer construction methodologies were becoming standardized.

Project Impacts on Historic Properties

The South Camden Historic District may be affected due to the proposed removal of cobblestone pavers, which currently lie underneath asphalt paving on the roadways within the district. The 1907 Line Ditch timber sewer system and nineteenth century brick sewers may be adversely impacted by the project because the project proposes to repair and/or replace some of the sewers for improved drainage and stormwater management.

Adverse Effects, Avoidance, Minimization, and Mitigation

MARAD, in coordination with NJSHPO, determined that this project would require the development of a Programmatic Agreement to address the potential for adverse effects. As of this public notice, MARAD, SHPO, and Camden County have all agreed to be signatories to the Agreement; The Delaware Tribe of Indians and Camden City Historic Preservation Commission will be concurring parties. The draft Agreement is available for review by going to www.regulations.gov, and search using docket number “MARAD-2024-0102.”

To mitigate the potential for the project to cause adverse effects, the Agreement will require Camden County to complete the following mitigation measures:

• Prepare and install signage detailing the history and significance of the New York Shipbuilding and South Camden Historic Districts;

• Document any unearthed cobblestone to Level III equivalent standards of the Historic American Engineering Record (HAER);

• Recover and securely store cobblestones for later use within the historic district;

• Conduct a documentation-and-video-based survey (Phase 1B/II) of any affected below ground sewer systems; and

• Based on the Phase 1B/II survey, recommend and implement a work plan for the evaluation, monitoring, documentation, protection, and/or treatment of any historic properties within the project's APE that may be adversely impacted by the project.

Public Participation

MARAD may provide additional information and documents concerning the project. This information, along with any comments received, can be found at the above docket number. Please check the notice specific docket for this information. It is requested that all public comments be submitted for consideration within 45 calendar days from the posting of this notice.

If you submit a comment, please include the docket number for this notice, indicate the specific section of this document to which each comment applies, and provide a reason for each suggestion or recommendation. You may submit your comments and material online as described in the ADDRESSES section above. MARAD recommends that you include your name and a mailing address, an email address, or a phone number in the body of your document so that MARAD can contact you if there are questions regarding your submission.

In accordance with 49 U.S.C. 31315(b)(6), DOT solicits comments from the public on the exemption requests. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter. Anyone can search the electronic form of all comments received into any of our dockets by the name of the individual submitting the comment (or signing the comment, if submitted on behalf of an association, business, labor union, etc.). For information on DOT's compliance with the Privacy Act, please visit https://www.transportation.gov/privacy.

(Authority: 49 CFR 1.81 and 1.93; 36 CFR part 800; 5 U.S.C. 552b.)

By Order of the Maritime Administrator.
T. Mitchell Hudson, Jr.,
Secretary, Maritime Administration.

[FR Doc. 2024-17677 Filed 8-8-24; 8:45 am]

BILLING CODE 4910-81-P